DEPARTMENT OF HOUSING AND URBAN DEVELOPMENT

[Docket No. FR-4724-FA-02]

Announcement of Funding Awards for Fiscal Year 2002; Urban Scholars Fellowship Program

AGENCY: Office of the Assistant Secretary for Policy Development and Research, HUD.

ACTION: Announcement of funding awards.

SUMMARY: In accordance with the Department of Housing and Urban Development Reform Act of 1970, Title V, this document notifies the public of funding awards for the Fiscal Year 2002 Urban Scholars Fellowship Program. The purpose of this document is to announce the names and addresses of the award winners and the amount of the awards to be used to attract scholars with recent Ph.D.'s and academic appointments at institutions of higher education to undertake research now, and throughout their careers, on research topics of interest to HUD.

FOR FURTHER INFORMATION CONTACT: Susan Brunson, Office of University Partnerships, Department of Housing and Urban Development, Room 8106, 451 Seventh Street, SW., Washington, DC 20410, telephone (202) 708-3061, extension 3852. To provide service for persons who are hearing- or speech-impaired, this number may be reached via TTY by dialing the Federal Information Relay Service on (800) 877-8399, or 202-708-1455. (Telephone numbers, other than the two “800” numbers, are not toll free.)

SUPPLEMENTARY INFORMATION: The Urban Scholars Fellowship Program is administered by the Office of University Partnerships under the Assistant Secretary for Policy Development and Research. The Office of University Partnerships administers HUD's ongoing grant programs to institutions of higher education and creates initiatives which colleges and universities can bring their traditional missions of teaching, research, service, and outreach to bear on the pressing local problems in their communities.

Eligible applicants include only Ph.D.’s who have an academic appointment at an institution of higher education and have received their Ph.D. no earlier than January 1, 1997. The Urban Scholar Fellowship Program provides each participating scholar $55,000 for expenses such as salary for two summers, graduate assistants to work on the research project, partial cost of paying for replacements to cover a reduced course load, computer software, the purchase of data, and travel expenses to collect data and make presentations at meetings.

The Catalog of Federal Domestic Assistance number for this program is 14.518.

On May 1, 2002 (67 FR 21970), HUD published a Notice of Funding Availability (NOFA) announcing the availability of $550,500 in carryover FY 2001 funds for the Urban Scholars Fellowship Program. The Department reviewed, evaluated, and scored the applications received based on the criteria in the NOFA. As a result, HUD has funded the applications announced below, and in accordance with Section 102(a)(4)(C) of the Department of Housing and Urban Development Reform Act of 1989 (103 Stat. 1987, U.S.C. 3545), the Department is publishing details concerning the recipients of funding awards, as set forth below.

List of Awardees for Grant Assistance Under the FY 2002 Urban Scholars Fellowship Program Funding Competition, by Name, Institution, Grant Amount and Research Topic

New England

1. Dr. Brian Jacob, Harvard University, $55,000. The Effects of Housing Vouchers on Low-Income Families: Evidence from a Randomized Lottery for Section 8 Vouchers.

Mid-Atlantic

2. Dr. Angela Foster, University of Pittsburgh, $55,000. The Path to Home Ownership: Racial Difference in the Home Ownership Process.

3. Dr. Amy Hillier, University of Pennsylvania, $55,000. Searching for Red Lines: A GIS and Spatial Statistical Analysis of Mortgage Discrimination.

Midwest

4. Dr. Lincoln Quillian, University of Wisconsin—Madison, $55,000. Sources of the Spatial Concentration of Poverty in U.S. Metropolitan Areas.

5. Dr. Rachel Weber, University of Illinois-Chicago, $55,000. The Impact of Tax Increment Financing on Residential Property Values.

Southwest

6. Dr. Nathan Berg, University of Texas-Dallas, $55,000. Perceptions and Housing Prices: A Longitudinal Case Study of Scattered-Site Public Housing in North Dallas.

7. Dr. James Elliott, Tulane University, $55,000. Immigrant Redistribution and Adaptation through Gateway Cities.

8. Dr. Cecilia Giusti, Texas A&M University, $55,000. Microbusinesses in the Texas-Mexico Border Region: Potential for Economic Community Development.

Northwest/Alaska

9. Dr. Rachel Garshick Kleit, University of Washington, $55,000. HOPE VI New Communities: Mapping Relationships in Mixed-Income Housing.

Dated: August 2, 2002.
Harold Bunce,
Deputy Assistant Secretary for Economic Affairs.

[FR Doc. 02-20395 Filed 8-12-02; 8:45 am]

BILLING CODE 4210-62-P